SMALL BUSINESS ADMINISTRATION

[Declaration of Disaster #3481, Amdt. 1]

State of Ohio

In accordance with a notice received from the Department of Homeland Security—Federal Emergency Management Agency, effective March 18, 2003, the above numbered declaration is hereby amended to establish the incident period for this disaster as beginning on February 14, 2003 and continuing through March 18, 2003.

All other information remains the same, i.e., the deadline for filing applications for physical damage is May 13, 2003, and for economic injury the deadline is December 15, 2003.

(Catalog of Federal Domestic Assistance Program Nos. 59002 and 59008)
Dated: March 21, 2003.
Herbert L. Mitchell,
Associate Administrator for Disaster Assistance.

[FR Doc. 03-7461 Filed 3-27-03; 8:45 am]

BILLING CODE 8025-01-P